DEPARTMENT OF EDUCATION

Applications for New Awards; Technical Assistance and Dissemination To Improve Services and Results for Children With Disabilities and the Safe and Drug-Free Schools and Communities Program—National Technical Assistance Center on Positive Behavioral Interventions and Supports

AGENCY: Office of Special Education and Rehabilitative Services, Office of Elementary and Secondary Education, Department of Education.

ACTION: Notice.

Overview Information

Technical Assistance and Dissemination To Improve Services and Results for Children With Disabilities and the Safe and Drug-Free Schools and Communities Program—National Technical Assistance Center on Positive Behavioral Interventions and Supports (PBIS)

Notice inviting applications for a new award for fiscal year (FY) 2013.

Catalog of Federal Domestic Assistance (CFDA) Number: 84.326S.

DATES:

Applications Available: July 5, 2013.

Deadline for Transmittal of Applications: August 19, 2013.

Full Text of Announcement

I. Funding Opportunity Description

Purpose of Programs: The purpose of the Technical Assistance and Dissemination To Improve Services and Results for Children With Disabilities program is to promote academic achievement and to improve results for children with disabilities by providing technical assistance (TA), supporting model demonstration projects, disseminating useful information, and implementing activities that are supported by scientifically based research.

The Safe and Drug-Free Schools and Communities program provides support to State educational agencies (SEAs) for a variety of drug-abuse- and violence-prevention activities focused primarily on school-age youths.

Priorities: This notice includes two absolute priorities. In accordance with 34 CFR 75.105(b)(2)(v), absolute priority 1 is from allowable activities specified or otherwise authorized in the Individuals With Disabilities Education Act (IDEA) (see sections 663 and 681(d) of the IDEA, 20 U.S.C. 1463 and 1481(d)). We are establishing absolute priority 2 under the authority in section 4121 of the Elementary and Secondary Education Act of 1965, as amended, and in accordance with section 437(d)(1) of the General Education Provisions Act (GEPA) (20 U.S.C. 7131; 20 U.S.C. 1232(d)(1).

Absolute Priorities: These priorities are absolute priorities. Under 34 CFR 75.105(c)(3), we consider only applications that meet these priorities.

These priorities are:

Absolute Priority 1—Technical Assistance and Dissemination To Improve Services and Results for Children With Disabilities—National Technical Assistance Center on Positive Behavioral Interventions and Supports (PBIS)

Background

The purpose of this priority is to fund a cooperative agreement to support the establishment and operation of a National Technical Assistance Center on Positive Behavioral Interventions and Supports (PBIS) (Center). The Center will assist SEAs and local educational agencies (LEAs) to develop, implement, scale-up, and sustain school-wide frameworks for positive behavioral interventions and supports that will help improve student behavior and school climate and help students with disabilities and their non-disabled peers remain engaged in learning.

PBIS Frameworks in General

The term “positive behavioral interventions and supports” (PBIS) was first used in a priority published by the Department in 1997, and it is currently used in the Individuals with Disabilities Education Act (IDEA) (e.g., sections 601(c)(5)(F), 611(e)(2)(C)(iii), 614(d)(3)(B)(i), 662(b)(2)(A)(v), and 665). We do not use “PBIS” to mean any specific program or curriculum. Rather, we use the term generically to reference a multi-tiered behavioral framework used to improve the integration and implementation of behavioral practices, data-driven decisionmaking systems, professional development opportunities, school leadership, supportive SEA and LEA policies, and evidence-based instructional strategies. A PBIS framework helps to improve behavioral and academic outcomes by improving school climate, preventing problem behavior, increasing learning time, promoting positive social skills, and delivering effective behavioral interventions and supports.

The Office of Special Education Programs (OSEP) has invested in developing and implementing behavioral interventions, supports, and strategies for over 30 years. In 1997, OSEP funded the first national TA center to explore how to incorporate a variety of behavioral practices into a school-wide framework that would (1) address the social, emotional, and behavioral needs of students with challenging behaviors in a comprehensive and deliberate manner, similar to how academic instruction is provided; and (2) provide a structure for the delivery of a continuum of evidence-based practices designed to benefit all students and supported by data-driven decisionmaking.

Although the initial focus of the TA center was to provide support for those students with the most challenging behaviors, including those with, and at risk of, emotional disturbance, it became evident to OSEP and center staff that most schools lacked the time and expertise needed to focus on the most challenging students. The cause appeared to be the absence of a basic school-wide structure to effectively address behavioral expectations for all students, including defining, teaching, and reinforcing expected behaviors and delivering consistent and effective consequences in a way that leads to decreased problem behaviors and increased appropriate behavior.

As a result, OSEP adjusted the scope of the initial investment. The revised goal focused on the design of a broad behavioral framework anchored by critical implementation components, yet flexible enough to allow for customization by end users (e.g., schools and LEAs) based on local needs and resources. After 15 years of research and practice, there is an emerging evidence base supporting the effectiveness of multi-tiered behavioral frameworks implemented in a variety of school settings across the country.

A PBIS framework proactively and systematically addresses student problem behavior (e.g., non-compliance, disrespect, bullying, poor social skills) by providing positive behavioral expectations that are clearly articulated, consistently upheld, and nested within a comprehensive infrastructure of support, that includes data collection and use, professional development, and supportive policies (Horner, Sugai, Todd, & Lewis-Palmer, 2005; Sugai & Horner, 2006). In providing a structure for schools to address behavior and behavior-related issues, a PBIS framework is designed to improve school climate for all students and staff and keep students in school and engaged in instruction.

PBIS provides for ascending levels of support from universal to targeted to an individualized, intensive level. Universal level interventions are designed for all students and all staff in support of a positive school-wide climate. Students who are not meeting behavioral expectations can be more easily identified and provided an additional level of targeted interventions and supports by trained personnel. For the few students who require even more complex interventions and support, additional individualized and “wraparound” supports are provided. Typically, this intensive level of support requires the coordination of services from multiple agencies, including mental health and juvenile justice agencies.

Effects of Implementing a PBIS Framework

Effective implementation of PBIS frameworks has resulted in decreases in student discipline referrals, suspensions, and expulsions; increased safety and school satisfaction among staff, students, and parents; improved school climate; and increased instructional time (Horner, Sugai, Todd, & Lewis-Palmer, 2005; Lewis-Palmer, Horner, Sugai, Eber, & Phillips, 2002; Luiselli, Putnam, & Sunderland, 2002; Schneider, Walker, & Sprague, 2000). These outcomes are beneficial to all students but even more so for students with disabilities.

Students with disabilities are disproportionately represented in school disciplinary infractions, suspensions, expulsions, and in juvenile justice facilities (U.S. Department of Education, 2012; Losen & Skiba, 2010). Data from the most recent Civil Rights Data Collection (CRDC) indicate that children with disabilities are suspended and expelled at rates more than twice their non-disabled peers (U.S. Department of Education, 2012). In some cases, because school personnel lack training in effective behavioral supports and interventions, children with disabilities may be inappropriately removed from the instructional setting. While children with disabilities often require the most intensive supports to succeed in school, their frequent removals from the instructional setting further hinder their academic progress. According to Scott and Barrett (2004), the typical disciplinary referral translated to an average of 20 minutes of student time spent out of the classroom. In addition, other students in the classroom also lost instructional time while the student engaged in the problem behavior. Implementation of PBIS, however, was found to increase overall instructional time (Scott & Barrett, 2004). Although the link between PBIS and improved academic outcomes has yet to be fully demonstrated, if behavioral disruptions are minimized and students are engaged in effective instruction, it is likely that both behavioral and academic progress will result.

Research demonstrates that the implementation of a PBIS framework improves overall school climate and safety. A 2008 evaluation of PBIS by Bradshaw, Koth, Bevans, Ialongo, and Leaf found that schools using PBIS showed significant improvement in overall organizational health as measured by the Organizational Health Inventory, which measures aspects of healthy functioning, the principal's resource acquisition ability, and staff collegiality.

When there is fidelity implementing PBIS, studies have found the following statistically significant results: perceived school safety, reductions in overall problem behaviors, reductions in bullying behaviors (Bradshaw, Pas, Goldweber, Rosenberg, & Leaf, 2012), and reductions in office discipline referrals and suspensions (Bradshaw, Mitchell, & Leaf, 2010; Horner et al., 2009). Studies have also found a correlation between the use of PBIS procedures and improved social skills (Barrett, Bradshaw, & Lewis-Palmer, 2008). Emerging evidence also links PBIS implementation with improved academic achievement (Bradshaw, Mitchell, & Leaf, 2010; Horner et al., 2009; McIntosh, Bennett, & Price, 2011). In addition to being effective, according to Bradshaw, Mitchell, and Leaf (2010), school-wide PBIS programs are attractive to SEAs and LEAs because they are designed to promote and enhance the learning environment for all students while having additional supports in place for students who have greater social, emotional, and behavioral needs. However, more research is needed on the relationship between PBIS implementation and improved academic achievement, the effectiveness of PBIS implementation in high-need settings, and effective implementation of more intensive and individualized interventions and services within the framework.

Status of Schools' Implementation of PBIS Frameworks

Although schools have long attempted to address discipline, disruptive and problem behavior, violence, bullying, and vandalism (Gottfredson & Gottfredson, 2001; Horner, Sugai, & Vincent, 2005; Menzies & Lane, 2011; Sugai & Horner, 2002), the vast majority of America's schools have not implemented comprehensive, effective supports addressing the full range of students' social, emotional, and behavioral needs. Renewed calls for schools to prevent disruptive and violent behavior have contributed to the increased implementation of behavioral frameworks, like PBIS, that focus on prevention and positive interventions school-wide (Bradshaw, Mitchell, & Leaf, 2010; Bradshaw, Reinke, Brown, Bevans, & Leaf, 2008).

From the data collected through the School-Wide Information System, a school-wide behavioral data collection and decisionmaking tool developed in conjunction with the PBIS TA center, there are data about PBIS implementation efforts and progress of about 18,000 schools (www.pbis.org). While impressive, this represents only 18 percent of all public schools in the United States. In addition, from assessments using the School-wide Evaluation Tool, which measures the quality of implementation (e.g., whether expectations are defined, behavioral expectations are taught, ongoing systems for rewarding satisfaction of behavioral expectations and for responding to behavioral violations are in place, etc.), we know that high-quality implementation mostly exists at the universal and targeted levels, where the behavioral needs of all students are addressed. Few schools are currently structured to comprehensively and effectively address the needs of students, including students with disabilities, with the most challenging behaviors. States and districts have also struggled to develop PBIS system components, such as data collection, policies, funding, and professional development, as well as the local capacity and expertise, that are critical to supporting and sustaining comprehensive local implementation efforts (Bradshaw, Reinke, Brown, Bevans, & Leaf, 2008).

In sum, additional support is needed to increase the number of SEAs and LEAs that scale-up the implementation of PBIS frameworks in order to achieve large-scale and widespread behavioral improvements. In addition, since high-quality implementation is critical to producing the best possible behavioral outcomes, the fidelity of current implementation efforts must be improved. Additional knowledge is needed on implementation in high-need areas and interventions for students with the most intensive needs. SEAs and LEAs also need continuing assistance in developing the school and program components necessary to support the implementation, scaling up, and sustainability of PBIS frameworks as a critical tool in promoting the achievement of students with and without disabilities.

Priority

The purpose of this priority is to fund a cooperative agreement to support the establishment and operation of a National Technical Assistance Center on PBIS (Center). The Center will assist SEAs and LEAs to develop and implement a PBIS framework that will help students remain engaged in instruction and improve academic outcomes for both students with and without disabilities. The Center must achieve, at a minimum, the following intended outcomes that support implementing a PBIS framework:

(a) Improved skills of SEA personnel to organize the components of a PBIS framework, such as policies, funding, professional development, coaching, data collection and analysis and interagency coordination for service provision with state justice, mental health and other youth services agencies.

(b) Improved skills of LEA personnel to (1) implement the evidence-based practices and skills that comprise the PBIS behavioral framework; (2) collect and use data to inform behavioral decisionmaking; and (3) develop, including through collaboration with mental health and juvenile justice agencies, the local capacity, partnerships, and expertise needed to implement, scale-up, and sustain a PBIS framework and demonstrate the effects of the implementation within the school and the larger school community.

(c) Increased body of knowledge of researchers and practitioners on implementing, scaling up, and sustaining a PBIS framework to provide the behavioral supports for students with disabilities and their non-disabled peers to achieve both behavioral and academic success.

(d) Increased use by SEAs and LEAs of reliable and valid tools and processes for evaluating the fidelity of the implementation of a PBIS framework and for measuring its outcomes, including reductions in discipline referrals, suspensions, expulsions, and the use of restraints and seclusion and improvements in school climate, time spent in instruction, and overall academic achievement.

(e) Increased body of knowledge on the processes to effectively implement PBIS in high-need LEAs; ¹ high-poverty schools; ² low-performing schools including persistently lowest-achieving schools; ³ and priority schools (in the case of States that have received the Department's approval of a request for flexibility under the Elementary and Secondary Education Act of 1965, as amended (ESEA)),⁴ to develop and improve the quality of information, tools, and products to assist initial and sustained implementation of a PBIS framework in these LEAs;

¹ For the purposes of this priority, the term “high-need LEA” means an LEA (a) that serves not fewer than 10,000 children from families with incomes below the poverty line; or (b) for which not less than 20 percent of the children served by the LEA are from families with incomes below the poverty line.

² For the purposes of this priority, the term “high-poverty school” means a school in which at least 50 percent of students are eligible for free or reduced-price lunches under the Richard B. Russell National School Lunch Act or in which at least 50 percent of students are from low-income families as determined using one of the criteria specified under section 1113(a)(5) of the Elementary and Secondary Education Act of 1965, as amended (ESEA). For middle and high schools, eligibility may be calculated on the basis of comparable data from feeder schools. Eligibility as a high-poverty school under this definition is determined on the basis of the most currently available data (www2.ed.gov/legislation/FedRegister/other/2010-4/121510b.html).

³ For the purposes of this priority,

(a) The term “persistently lowest-achieving schools” means, as determined by the State—

(1) Any Title I school in improvement, corrective action, or restructuring that—

(i) Is among the lowest-achieving five percent of Title I schools in improvement, corrective action, or restructuring or the lowest-achieving five Title I schools in improvement, corrective action, or restructuring in the State, whichever number of schools is greater; or

(ii) Is a high school that has had a graduation rate as defined in 34 CFR 200.19(b) that is less than 60 percent over a number of years; and

(2) Any secondary school that is eligible for, but does not receive, Title I funds that—

(i) Is among the lowest-achieving five percent of secondary schools or the lowest-achieving five secondary schools in the State that are eligible for, but do not receive, Title I funds, whichever number of schools is greater; or

(ii) Is a high school that has had a graduation rate as defined in 34 CFR 200.19(b) that is less than 60 percent over a number of years.

(b) To identify the lowest-achieving schools, a State must take into account both—

(i) The academic achievement of the “all students” group in a school in terms of proficiency on the State's assessments under section 1111(b)(3) of the ESEA in reading/language arts and mathematics combined; and

(ii) The school's lack of progress on those assessments over a number of years in the “all students” group.

For the purposes of this priority, the Department considers schools that are identified as Tier I or Tier II schools under the School Improvement Grants Program (see 75 FR 66363) as part of a State's approved FY 2009, FY 2010, or FY 2011 application to be persistently lowest-achieving schools. A list of these Tier I and Tier II schools can be found on the Department's Web site at www2.ed.gov/programs/sif/index.html.

⁴ For the purposes of this priority, the term “priority school” means a school that has been identified by the State as a priority school pursuant to the State's approved request for ESEA flexibility.

(f) Expanded use of the lessons learned from implementing PBIS to: (1) Inform other Federal, State, and district efforts to reduce incidents of bullying, the use of restraint and seclusion, and the disproportionate application of disciplinary procedures such as suspension and expulsion to minority students and students with disabilities; (2) reduce inappropriate referrals of students with disabilities to law enforcement; and (3) inform school climate and school mental health initiatives that affect students with disabilities and that are supported or will be supported by the Department of Education and other Federal agencies (e.g., the Department of Justice, the Department of Health and Human Services).

In addition to these program requirements, to be considered for funding under this absolute priority, applicants must meet the application and administrative requirements under Absolute Priority 1 and Absolute Priority 2 Common Elements.

Absolute Priority 2—Technical Assistance and Dissemination to Improve Services and Results for Promoting Safe and Drug-Free Schools—National Technical Assistance Center on Positive Behavioral Interventions and Supports (PBIS)

Background

The purpose of this priority is to support the work of the Center funded under absolute priority 1 in assisting SEAs and LEAs funded under the School Climate Transformation Grants initiative, as well as under other Safe and Drug-Free Schools and Communities National Programs, to develop and implement a PBIS framework that promotes safe and drug-free schools.

As detailed in the background section to absolute priority 1, research indicates that when multi-tiered behavioral frameworks are implemented with fidelity, schools experience reductions in problem behavior (as measured by office discipline referrals and suspension), decreased bullying and peer victimization, and improved organizational health and perception of school as a safe setting. There is also emerging evidence that: (1) youth risk factors are reduced in schools where these frameworks are implemented well; and (2) reduced risk factors are correlated with reduced drug use, among other improved behaviors.

Accordingly, the Department's 2014 budget request for the Successful, Safe, and Healthy Students program includes $50 million for a proposed School Climate Transformation Grants initiative. This initiative, in combination with grants from the Substance Abuse and Mental Health Services Administration (SAMHSA) and the Department of Justice (DOJ), is a part of the President's plan, Now Is The Time, to make schools safer from gun violence and create positive school climates. Grants would enable SEAs and LEAs to develop and adopt, or expand to more schools, a multi-tiered decisionmaking framework that guides the selection, integration, and implementation of the best evidence-based behavioral practices for improving school climate and behavioral outcomes for all students. Funding under absolute priority 2 would be used to provide technical assistance for that purpose to grantees funded under programs implemented in connection with the School Climate Transformation Grants initiative as well as other Successful, Safe, and Healthy Programs.

Priority

The purpose of this priority is to support the work of the National Technical Assistance Center on PBIS (Center) funded under absolute priority 1 in assisting SEAs and LEAs funded under the School Climate Transformation Grants initiative as well as other Safe and Drug-Free Schools and Communities National Programs to develop and implement a PBIS framework that promotes safe and drug-free schools and is designed to keep students engaged in instruction and improve academic outcomes for students with and without disabilities. The Center must achieve, at a minimum, the following intended outcomes that support implementing a PBIS framework:

(a) Improved skills of SEA personnel to organize the components of a PBIS framework, such as policies, funding, professional development, coaching, data collection and analysis, and interagency coordination for service provision with state justice, mental health and other youth services agencies.

(b) Improved skills of LEA personnel to (1) implement the evidence-based practices and skills that comprise the PBIS behavioral framework; (2) collect and use data to inform behavioral decisionmaking; and (3) develop, including through collaboration with mental health and juvenile justice agencies, the local capacity and expertise needed to implement, scale-up, and sustain a PBIS framework and demonstrate the effects of the implementation within the school and the larger school community.

(c) Increased body of knowledge of researchers and practitioners on implementing, scaling up, and sustaining a PBIS framework to provide the behavioral supports to prevent the illegal use of drugs and violence among, and promote safety and discipline for, students.

(d) Increased use by SEAs and LEAs of reliable and valid tools and processes for evaluating the fidelity of the implementation of a PBIS framework and for measuring its outcomes, including reductions in violence and the illegal use of drugs, discipline referrals, suspensions, expulsions, and the use of restraints and seclusion, and improvements in school climate, time spent in instruction, and overall academic achievement.

(e) Increased body of knowledge on the processes to effectively implement PBIS in high-need LEAs; ⁵ high-poverty schools; ⁶ low-performing schools including persistently lowest-achieving schools; ⁷ and priority schools (in the case of States that have received the Department's approval of a request for flexibility under the Elementary and Secondary Education Act of 1965, as amended (ESEA)),⁸ to develop and improve the quality of information, tools, and products to assist initial and sustained implementation of a PBIS framework in these LEAs;

⁵ For the purposes of this priority, the term “high-need LEA” means an LEA (a) that serves not fewer than 10,000 children from families with incomes below the poverty line; or (b) for which not less than 20 percent of the children served by the LEA are from families with incomes below the poverty line.

⁶ For the purposes of this priority, the term “high-poverty school” means a school in which at least 50 percent of students are eligible for free or reduced-price lunches under the Richard B. Russell National School Lunch Act or in which at least 50 percent of students are from low-income families as determined using one of the criteria specified under section 1113(a)(5) of the Elementary and Secondary Education Act of 1965, as amended (ESEA). For middle and high schools, eligibility may be calculated on the basis of comparable data from feeder schools. Eligibility as a high-poverty school under this definition is determined on the basis of the most currently available data (www2.ed.gov/legislation/FedRegister/other/2010-4/121510b.html).

⁷ For the purposes of this priority,

(a) The term “persistently lowest-achieving schools” means, as determined by the State—

(1) Any Title I school in improvement, corrective action, or restructuring that—

(i) Is among the lowest-achieving five percent of Title I schools in improvement, corrective action, or restructuring or the lowest-achieving five Title I schools in improvement, corrective action, or restructuring in the State, whichever number of schools is greater; or

(ii) Is a high school that has had a graduation rate as defined in 34 CFR 200.19(b) that is less than 60 percent over a number of years; and

(2) Any secondary school that is eligible for, but does not receive, Title I funds that—

(i) Is among the lowest-achieving five percent of secondary schools or the lowest-achieving five secondary schools in the State that are eligible for, but do not receive, Title I funds, whichever number of schools is greater; or

(ii) Is a high school that has had a graduation rate as defined in 34 CFR 200.19(b) that is less than 60 percent over a number of years.

(b) To identify the lowest-achieving schools, a State must take into account both—

(i) The academic achievement of the “all students” group in a school in terms of proficiency on the State's assessments under section 1111(b)(3) of the ESEA in reading/language arts and mathematics combined; and

(ii) The school's lack of progress on those assessments over a number of years in the “all students” group.

For the purposes of this priority, the Department considers schools that are identified as Tier I or Tier II schools under the School Improvement Grants Program (see 75 FR 66363) as part of a State's approved FY 2009, FY 2010, or FY 2011 application to be persistently lowest-achieving schools. A list of these Tier I and Tier II schools can be found on the Department's Web site at www2.ed.gov/programs/sif/index.html.

⁸ For the purposes of this priority, the term “priority school” means a school that has been identified by the State as a priority school pursuant to the State's approved request for ESEA flexibility.

(f) Expanded use of the lessons learned from implementing a PBIS framework to: (1) Inform other Federal, State, and district efforts to reduce incidents of illegal drug use and violence by students (including bullying), the use of restraint and seclusion, and the disproportionate application of disciplinary procedures such as suspension and expulsion to minority students and students with disabilities; (2) reduce inappropriate referrals of students to law enforcement; and (3) inform school climate and school mental health initiatives that are supported or will be supported by the Department of Education and other Federal agencies (e.g., the Department of Justice, the Department of Health and Human Services).

In addition to these program requirements, to be considered for funding under this absolute priority, applicants must meet the application and administrative requirements under Absolute Priority 1 and Absolute Priority 2 Common Elements.

Absolute Priority 1 and Absolute Priority 2 Common Elements

In addition to the program requirements contained in both absolute priorities, to be considered for funding applicants must meet the following application and administrative requirements. OSEP encourages innovative approaches to meet these requirements, which are:

(a) Demonstrate, in the narrative section of the application under “Significance of the Project,” how the proposed project will—

(1) Address the current and emerging needs of SEAs and LEAs to implement, scale-up, and sustain a PBIS framework.

To address this requirement the applicant must—

(i) Present applicable national, State, regional, or local data demonstrating the needs of SEAs and LEAs to implement, scale-up, and sustain a PBIS framework; and

(ii) Demonstrate knowledge of current policy initiatives and issues relating to implementing, scaling, and sustaining a PBIS framework within the context of comprehensive school improvement efforts; and

(2) Result in (i) improved quality of PBIS implementation and (ii) increased scale-up in LEAs and SEAs.

(b) Demonstrate, in the narrative section of the application under “Quality of the Project Services,” how the proposed project will—

(1) Ensure equal access and treatment for members of groups that have traditionally been underrepresented based on race, color, national origin, linguistic diversity, gender, age, or disability. To meet this requirement, the applicant must describe the process that will be used to—

(i) Identify the needs of the intended recipients for TA and information; and

(ii) Ensure that services and products meet the needs of the intended recipients;

(2) Achieve its goals, objectives, and intended outcomes. To meet this requirement, the applicant must provide—

(i) Measureable intended project outcomes; and

(ii) The theory of action on how the proposed project will achieve the intended project outcomes.

(3) Use a conceptual framework to guide the development of project plans and activities, describing any underlying concepts, assumptions, expectations, beliefs, or theories, as well as the presumed relationship or linkages among these variables, and any empirical support for this framework;

(4) Be based on current research and evidence-based practices. To meet this requirement, the applicant must describe—

(i) The current research on the effectiveness of PBIS and related evidence-based practices;

(ii) How evidence-based adult learning principles and implementation science will inform the TA provided (see http://nirn.fpg.unc.edu/sites/nirn.fpg.unc.edu/files/resources/NIRN-MonographFull-01-2005.pdf); and

(iii) The process the proposed project will use to incorporate current research and evidence-based practices in the development and delivery of its products and services;

(5) Develop products and provide services that are of sufficient quality, intensity, and duration to achieve the intended outcomes of the proposed project. To address this requirement, the applicant must describe—

(i) Its proposed activities to identify, develop, or expand the knowledge base of researchers, trainers, TA providers, and practitioners on PBIS;

(ii) Its proposed approach to universal, general TA,⁹ including the intended recipients of the products and services under this approach;

⁹ “Universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iii) Its proposed approach to targeted, specialized TA,¹⁰ including the intended recipients of the products and services under this approach and its proposed approach to measure the readiness of potential TA recipients to work with the project, including the recipients' current infrastructure, available resources, and ability to build capacity at the local level; and

¹⁰ “Targeted, specialized TA” means TA service based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(iv) Its proposed approach to intensive, sustained TA,¹¹ including the intended recipients of the products and services under this approach. To address this requirement, the applicant must describe—

¹¹ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) Its proposed approach to measure the readiness of SEAs and LEAs to work with the proposed project using intensive TA, including their commitment to PBIS, how PBIS implementation will support other ongoing reform priorities, current infrastructure, available resources, and ability to build capacity at the local, district, or State level;

(B) Its proposed plan for assisting States and LEAs to build comprehensive systems of ongoing professional development based on adult learning principles that include initial training for all staff, intensive role-specific training for small groups, and one-on-one coaching; and

(C) Its proposed plan for working with each level of the education system (e.g., SEA, regional TA providers, LEAs, schools) and other key systems (justice and mental health) to ensure communication between each level and across systems, and that there are mechanisms in place at each level to support the use of PBIS;

(D) Its proposed plan for making information on evidence-based behavioral interventions across the multiple tiers of support available to intended audiences, which must include how the applicant will link to the evidence-based practices identified by the Department and other relevant federal agencies; (6) Develop products and implement services to maximize the project's efficiency. To address this requirement, the applicant must describe—

(i) How the proposed project will use technology to achieve the intended project outcomes;

(ii) How the proposed project will collaborate with the School-wide Integrated Framework for Transformation Center (www.swiftschools.org), the State Implementation and Scaling-up of Evidence-based Practices Center (http://sisep.fpg.unc.edu), and other related centers supported by the Department of Education, the Substance Abuse and Mental Health Services Administration (SAMHSA), or the Department of Justice (DOJ), as directed by the Department of Education in the cooperative agreement;

(iii) With whom the proposed project will collaborate (including other Federal TA efforts such as OSEP TA centers, the Office of Elementary and Secondary Education Comprehensive Centers (http://www2.ed.gov/programs/newccp/contacts.html), the Department of Justice National Technical Assistance Center, and the Department of Health and Human Services Safe School/Healthy Students TTA Center) on the intended outcomes of this collaboration; and

(iv) How the proposed project will use non-project resources effectively to achieve the intended project outcomes.

(c) Demonstrate, in the narrative section of the application under “Quality of the Evaluation Plan,” how—

(1) The proposed project will collect and analyze data related to specific and measurable goals, objectives, and intended outcomes of the project. To address this requirement, the applicant must describe—

(i) Proposed evaluation methodologies, including instruments, data collection methods, and possible analyses;

(ii) Proposed standards or targets for determining effectiveness; and

(iii) Proposed methods for collecting data on implementation supports and fidelity of implementation;

(2) The proposed project will use the evaluation results to examine the effectiveness of the project's implementation strategies and the progress toward achieving intended outcomes; and

(3) The methods of evaluation will produce quantitative and qualitative data that demonstrate whether the project achieved the intended outcomes.

(d) Demonstrate, in the narrative section of the application under “Adequacy of Project Resources,” separately for (1) absolute priority 1 only and (2) absolute priority 2 only, how—

(1) The proposed project will encourage applications for employment from persons who are members of groups that have traditionally been underrepresented based on race, color, national origin, linguistic diversity, gender, age, or disability, as appropriate;

(2) The proposed key project personnel, consultants, and subcontractors have the qualifications and experience to carry out the proposed activities and meet the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as appropriate; and

(ii) Timelines and milestones for accomplishing the project tasks;

(2) Key project personnel and any consultants and subcontractors will be allocated to the project and the appropriateness and adequacy of these time allocations to achieve the project's intended outcomes;

(3) The proposed management plan will ensure that the products and services provided are of high quality; and

(4) The proposed project will benefit from a diversity of perspectives, including families, educators, TA providers, researchers, and policy makers, among others, in its development and operation.

(f) Meet the following application requirements—

(1) Include in Appendix A a logic model that depicts, at a minimum, the goals, activities, outputs, and outcomes of the proposed project. A logic model communicates how a project will achieve its intended outcomes and provides a framework for both the formative and summative evaluations of the project.

Note: The following Web sites provide more information on logic models: www.researchutilization.org/matrix/logicmodel_resource3c.html and www.tadnet.org/pages/589;

(2) Include in Appendix A a visual representation of the conceptual framework, if a visual representation is developed;

(3) Include in Appendix A person-loading charts and timelines, as appropriate, to illustrate the management plan described in the narrative;

(4) Include in the budget attendance at the following:

(i) A one and one-half day kick-off meeting to be held in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' conference in Washington, DC, during each year of the project period;

(iii) Three trips annually to attend Department briefings, Department-sponsored conferences, and other meetings, as requested by OSEP; and

(iv) A one-day intensive review meeting that will be held during the last half of the second year of the project period;

(5) Include in the budget a line item for an annual set-aside of five percent of the grant amount for absolute priority 1 and five percent of the grant amount for absolute priority 2 to support emerging needs that are consistent with the proposed project's intended outcomes, as those needs are identified in consultation with OSEP.

Note: With approval from the OSEP project officer, the project must reallocate any remaining funds from this annual set-aside no later than the end of the third quarter of each budget period; and

(6) Maintain a Web site that meets government or industry-recognized standards for accessibility.

Fourth and Fifth Years of the Project

In deciding whether to continue funding the project for the fourth and fifth years, the Secretary will consider the requirements of 34 CFR 75.253(a), as well as—

(a) The recommendation of a review team consisting of experts selected by the Secretary. This review will be conducted during a one-day intensive meeting in Washington, DC, that will be held during the last half of the second year of the project period;

(b) The timeliness and effectiveness with which all requirements of the negotiated cooperative agreement have been or are being met by the project; and

(c) The quality, relevance, and usefulness of the project's activities and products and the degree to which the project's activities and products are aligned with the project's objectives and likely to result in the project achieving its proposed outcomes.

References

Barrett, S., Bradshaw, C. P., & Lewis-Palmer, T. (2008). Maryland statewide PBIS initiative: Systems, evaluation, and next steps. Journal of Positive Behavior Interventions, 10, 105-114.

Bradshaw, C., Koth, C., Bevans, K., Ialongo, N., & Leaf, P. J. (2008). The impact of school-wide positive behavioral interventions and supports (PBIS) on the organizational health of elementary schools. School Psychology Quarterly, 23, 462-473.

Bradshaw, C. P., Mitchell, M. M., & Leaf, P. J. (2010). Examining the effects of school-wide positive behavioral interventions and supports on student outcomes: Results from a randomized controlled effectiveness trial in elementary schools. Journal of Positive Behavior Interventions, 12, 133-148.

Bradshaw, C. P., Pas, E. T., Goldweber, A., Rosenberg, M., & Leaf, P. (2012). Integrating school-wide positive behavioral interventions and supports with tier 2 coaching to student support teams: The PBISplus Model. Advances in School Mental Health Promotion: Training and Practice, Research and Policy, 5(3), 177-193.

Bradshaw, C. P., Reinke, C. P., Brown, L. D., Bevans, K. B., & Leaf, P. J. (2008). Implementation of school-wide positive behavioral interventions and supports (PBIS) in elementary schools: Observations from a randomized trial. Education and Treatment of Children, 31(1), 1-26.

Gottfredson, G. D., & Gottfredson, D. C. (2001). Gang problems and gang programs in a national sample of schools. Ellicott City, MD: Gottfredson Associates, Inc.

Horner, R. H., Sugai, G., Smolkowski, K., Eber, L., Nakasato, J., Todd, A. W., & Esperanza, J. (2009). A randomized, wait-list controlled effectiveness trial assessing school-wide positive behavior support in elementary schools. Journal of Positive Behavior Interventions, 11(3), 133-144.

Horner, R., Sugai, G., Todd, A., & Lewis-Palmer, T. (2005). School-wide positive behavior support. In L. Bambara & L. Kern (Eds.), Individualized supports of students with problem behavior plans (pp. 259-390). New York: Guilford.

Horner, R., Sugai, G., & Vincent, C. (2005, Spring). School-wide positive behavior support: Investing in student success. Impact, 18(2), 4-5.

Lewis-Palmer, T., Horner, R. H., Sugai, G., Eber, L., & Phillips, D. (2002). Illinois Positive Behavior Interventions and Support Project: 2001-2002 Progress Report. University of Oregon: OSEP Center on Positive Behavior Support.

Losen, D. J., & Skiba, R. J. (2010). Suspended education: Urban middle schools in crisis. Montgomery, AL: Southern Poverty Law Center. Retrieved from www.splcenter.org/get-informed/publications/suspended-education.

Luiselli, J. K., Putnam, R. F., & Sunderland, M. (2002). Longitudinal evaluation of behavior support intervention in a public middle school. Journal of Positive Behavior Interventions, 6(3), 182-188.

McIntosh, K., Bennett, J. L., & Price, K. (2011). Evaluation of social and academic effects of school-wide positive behaviour support in a Canadian school district. Exceptionality Education International, 21(1), 46-60.

Menzies, H. M., & Lane, K. L. (2011). Using self-regulated strategies and functional assessment-based interventions to provide academic and behavioral support to students at risk within three-tiered models of prevention. Preventing School Failure, 55(4), 181-191.

Schneider, T., Walker, H. M., & Sprague, J. R. (2000). Safe school design: A handbook for educational leaders. Eugene, OR: ERIC Clearinghouse on Educational Management, College of Education, University of Oregon.

Scott, T. M., & Barrett, S. B. (2004). Using staff and student time engaged in disciplinary procedures to evaluate the impact of school-wide PBIS. Journal of Positive Behavior Interventions, 6(1), 21-27.

Sugai, G., & Horner, R. H. (2002). The evolution of discipline practices: School-wide positive behavior supports. Child and Family Behavior Therapy, 24, 23-50.

Sugai, G., & Horner, R. (2006). A promising approach to expanding and sustaining school-wide positive behavior support. School Psychology Review, 35(2), 245-259.

U.S. Department of Education, Office for Civil Rights. (2012). Civil rights data collection (CRDC): The transformed CRDC—March 2012 data summary. Retrieved from www2.ed.gov/about/offices/list/ocr/docs/crdc-2012-data-summary.pdf.

Waiver of Proposed Rulemaking: Under the Administrative Procedure Act (APA) (5 U.S.C. 553) the Department generally offers interested parties the opportunity to comment on proposed priorities and requirements. Section 681(d) of IDEA, however, makes the public comment requirements of the APA inapplicable to absolute priority 1 in this notice. In addition, Section 437(d)(1) of GEPA allows the Secretary to exempt from rulemaking requirements regulations governing the first grant competition under a new or substantially revised program authority. This is the first grant competition for the Safe and Drug-Free Schools and Communities program under section 4121 of the Elementary and Secondary Education Act of 1965, as amended, 20 U.S.C. 7131, and therefore qualifies for this exemption. In order to ensure timely grant awards, the Secretary has decided to forego public comment on absolute priority 2 under section 437(d)(1) of GEPA. Absolute priority 2 will apply to the FY 2013 grant competition and any subsequent year in which we make awards from the list of unfunded applicants from this competition.

Program Authority: 20 U.S.C. 1463 and 1481; 20 U.S.C. 7131.

Applicable Regulations: (a) The Education Department General Administrative Regulations in 34 CFR parts 74, 75, 77, 79, 80, 81, 82, 84, 86, 97, 98, and 99. (b) The Education Department debarment and suspension regulations in 2 CFR part 3485. (c) The regulations in 34 CFR part 299.

Note: The regulations in 34 CFR part 79 apply to all applicants except federally recognized Indian tribes.

Note: The regulations in 34 CFR part 86 apply to institutions of higher education (IHEs) only.

II. Award Information

Type of Award: Cooperative agreement.

Estimated Available Funds: For absolute priority 1: $1,685,000 in FY 2013 and each of the four subsequent years. For absolute priority 2: There are no funds available in FY 2013 but should funding become available in FY 2014 we estimate that $2,500,000 would be available in FY 2014 and each of the three subsequent years. Funding for absolute priority 2 is contingent upon funding under the Safe and Drug-Free Schools and Communities (SDFSC) National Programs, specifically, funding for absolute priority 2 and funding for grants under the SDFSC National Programs that would be the recipients of the technical assistance to be provided under absolute priority 2.

Note: Applicants must submit a separate Form 524b budget and budget narrative for absolute priority 1 only and a separate Form 524b budget and budget narrative for absolute priority 2 only. The Secretary will reject any application that does not separately address the requirements specified in absolute priority 1 and absolute priority 2 and include separate budgets and budget narratives for absolute priority 1 only and absolute priority 2 only.

Contingent upon the availability of funds and the quality of applications, we may make additional awards in FY 2014 from the list of unfunded applicants from this competition.

Maximum Award: We will reject any application that proposes a budget exceeding $1,685,000 for absolute priority 1 for a single budget period of 12 months. We will reject any application that proposes a budget exceeding $2,500,000 for absolute priority 2 for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance. Applications must include plans for both the 36-month award and the 24-month extension.

III. Eligibility Information

1. Eligible Applicants: SEAs; LEAs, including public charter schools that are considered LEAs under State law; IHEs; other public agencies; private nonprofit organizations; outlying areas; freely associated States; Indian tribes or tribal organizations; and for-profit organizations.

2. Cost Sharing or Matching: This competition does not require cost sharing or matching.

3. Other General Requirements:

(a) Recipients of funding under this competition must make positive efforts to employ, and advance in employment, qualified individuals with disabilities (see section 606 of IDEA).

(b) Each applicant for, and recipient of, funding under this competition must involve individuals with disabilities, or parents of individuals with disabilities ages birth through 26, in planning, implementing, and evaluating the project (see section 682(a)(1)(A) of IDEA).

IV. Application and Submission Information

1. Address to Request Application Package: Education Publications Center (ED Pubs), U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this competition as follows: CFDA number 84.326S.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 100 pages, using the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section (Part III).

We will reject your application if you exceed the page limit; or if you apply other standards and exceed the equivalent of the page limit.

3. Submission Dates and Times:

Applications Available: July 5, 2013.

Deadline for Transmittal of Applications: August 19, 2013.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. However, under 34 CFR 79.8(a), we waive intergovernmental review in order to make an award by the end of FY 2013.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The SAM registration process may take seven or more business days to complete. If you are currently registered with SAM, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition must be submitted electronically unless you qualify for an exception to this requirement in accordance with the instructions in this section.

a. Electronic Submission of Applications

Applications for grants under the National Technical Assistance Center on PBIS competition, CFDA number 84.326S, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the National Technical Assistance Center on PBIS at www.Grants.gov. You must search for the downloadable application package for this competition by the CFDA number. Do not include the CFDA number's alpha suffix in your search (e.g., search for 84.326, not 84.326S).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (a Department-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Renee Bradley, U.S. Department of Education, 400 Maryland Avenue SW., Room 4103, Potomac Center Plaza (PCP), Washington, DC 20202-2600. FAX: (202) 245-7617.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.326S), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.326S), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances, including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993, the Department has established a set of performance measures, including long-term measures, that are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Renee Bradley, U.S. Department of Education, 400 Maryland Avenue SW., Room 4103, PCP, Washington, DC 20202-2600. Telephone: (202) 245-7277.

If you use a TDD or a TTY, call the Federal Information Relay Service (FIRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FIRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 1, 2013.
Michael K. Yudin,
Delegated the authority to perform the functions and duties of the Assistant Secretary for Special Education and Rehabilitative Services.
Deborah S. Delisle,
Assistant Secretary for Elementary and Secondary Education.

[FR Doc. 2013-16191 Filed 7-3-13; 8:45 am]

BILLING CODE 4000-01-P